DEPARTMENT OF DEFENSE

Defense Acquisition Regulations System

48 CFR Part 252

Defense Federal Acquisition Regulation Supplement; Technical Amendments

AGENCY: Defense Acquisition Regulations System, Department of Defense (DoD).

ACTION: Final rule.

SUMMARY: DoD is making amendments to the Defense Federal Acquisition Regulation Supplement (DFARS) in order to make editorial changes.

DATES: Effective Date: May 29, 2012.

FOR FURTHER INFORMATION CONTACT: Ms. Ynette Shelkin, Defense Acquisition Regulations System, OUSD(AT&L)DPAP(DARS), Room 3B855, 3060 Defense Pentagon, Washington, DC 20301-3060; telephone 571-372-6089.

SUPPLEMENTARY INFORMATION: DFARS Case 2012-D032 was published in the Federal Register as an interim rule on May 22, 2012 (77 FR 30359), requesting public comments be submitted on or before July 23, 2012. The interim rule amends DFARS part 252 to implement the United States-Colombia Trade Promotion Agreement Implementation Act (Pub. L. 112-42) (19 U.S.C. 3805 note) by adding Colombia to the definition of “Free Trade Agreement country” in multiple locations in the DFARS. This document makes editorial changes to the interim rule. The date for receipt of comments in response to the interim rule is unchanged by this amendment.

List of Subjects in 48 CFR Part 252

Government procurement.

Ynette R. Shelkin,
Editor, Defense Acquisition Regulations System.

Therefore, 48 CFR part 252 is amended as follows:

PART 252—SOLICITATION PROVISIONS AND CONTRACT CLAUSES

1. The authority citation for 48 CFR part 252 continues to read as follows:

Authority: 41 U.S.C. 1303 and 48 CFR chapter 1.

252.225-7017 [Amended]

2. Section 252.225-7017 is amended—

a. In paragraph (a), in the definition of “Designated country,” paragraph (ii), by removing “Australia, Bahrain, Canada, Chile, Columbia, Costa Rica, Dominican Republic, El Salvador, Guatemala, Honduras, Korea (Republic of), Mexico, Morocco, Nicaragua, Peru, or Singapore” and adding “Australia, Bahrain, Canada, Chile, Colombia, Costa Rica, Dominican Republic, El Salvador, Guatemala, Honduras, Korea (Republic of), Mexico, Morocco, Nicaragua, Peru, or Singapore” in its place; and

b. In paragraph (a) in the definition of “Free Trade Agreement country” by removing “Australia, Bahrain, Canada, Chile, Columbia, Costa Rica, Dominican Republic, El Salvador, Guatemala, Honduras, Korea (Republic of), Mexico, Morocco, Nicaragua, Peru, or Singapore” and adding “Australia, Bahrain, Canada, Chile, Colombia, Costa Rica, Dominican Republic, El Salvador, Guatemala, Honduras, Korea (Republic of), Mexico, Morocco, Nicaragua, Peru, or Singapore” in its place.

252.225-7021 [Amended]

3. Section 252.225-7021 is amended in paragraph (a), in the definition of “Designated country,” paragraph (ii), by removing “Australia, Bahrain, Canada, Chile, Columbia, Costa Rica, Dominican Republic, El Salvador, Guatemala, Honduras, Korea (Republic of), Mexico, Morocco, Nicaragua, Peru, or Singapore” and adding “Australia, Bahrain, Canada, Chile, Colombia, Costa Rica, Dominican Republic, El Salvador, Guatemala, Honduras, Korea (Republic of), Mexico, Morocco, Nicaragua, Peru, or Singapore” in its place.

252.225-7036 [Amended]

4. Section 252.225-7036 is amended in paragraph (a), in the definition of “Free Trade Agreement country” by removing “Australia, Bahrain, Canada, Chile, Costa Rica, Dominican Republic, El Salvador, Guatemala, Honduras, Korea (Republic of), Mexico, Morocco, Nicaragua, Peru, or Singapore” and adding “Australia, Bahrain, Canada, Chile, Colombia, Costa Rica, Dominican Republic, El Salvador, Guatemala, Honduras, Korea (Republic of), Mexico, Morocco, Nicaragua, Peru, or Singapore” in its place.

252.225-7045 [Amended]

5. Section 252.225-7045 is amended in paragraph (a), in the definition of “Designated country,” paragraph (2), by removing “Australia, Bahrain, Canada, Chile, Columbia, Costa Rica, Dominican Republic, El Salvador, Guatemala, Honduras, Korea (Republic of), Mexico, Morocco, Nicaragua, Peru, or Singapore” and adding “Australia, Bahrain, Canada, Chile, Colombia, Costa Rica, Dominican Republic, El Salvador, Guatemala, Honduras, Korea (Republic of), Mexico, Morocco, Nicaragua, Peru, or Singapore” in its place.

[FR Doc. 2012-12934 Filed 5-25-12; 8:45 am]

BILLING CODE 5001-06-P